SECURITIES AND EXCHANGE COMMISSION

Submission for OMB Review; Comment Request

Upon Written Request; Copies Available From: Securities Exchange Commission, Office of Filings and Information Services, Washington, DC 20549.

Request for Approval: Online Investor Behavior Survey SEC File No. 270-483; OMB Control No. 3235-new.

Notice is hereby given that, pursuant to the Paperwork Reduction Act of 1995(44 U.S.C. 3501 et seq.), the Securities and Exchange Commission (“Commission”) has submitted to the Office of Management and Budget a request for approval of an online investor behavior survey. The survey would be voluntary in nature. It would be completed by approximately 10,000 individual investors. The survey will be distributed by brokerage firm members of the Securities Industry Association and posted on the Commission's website. Each respondent would spend approximately 15 minutes completing the survey for an estimated annual total burden of 2,500 hours. The survey would enable the Commission to learn more about the habits and education needs of online investors. It will help the Commission determine how to improve its investor protection and education initiatives with respect to online investors. An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503; and (ii) Michael E. Bartell, Associate Executive Director, Office of Information Technology, Securities and Exchange Commission, 450 Fifth Street, NW., Washington, DC 20549. Comments must be submitted to OMB within 30 days of this notice.

Dated: August 23, 2000.
Margaret H. McFarland,
Deputy Secretary.

[FR Doc. 00-22771 Filed 9-5-00; 8:45 am]

BILLING CODE 8010-01-M